DEPARTMENT OF THE INTERIOR

Office of the Secretary

Bureau of Indian Affairs

Office of the Special Trustee for American Indians

Tribal Consultation on Indian Trust Asset Management

AGENCY: Office of the Secretary, Bureau of Indian Affairs, Office of the Special Trustee for American Indians, Interior.

ACTION: Notice of Tribal Consultation Meeting.

SUMMARY: The Office of the Secretary, along with the Bureau of Indian Affairs and the Office of the Special Trustee for American Indians, will conduct a meeting on Indian trust asset management. The purpose of the meeting is to discuss any proposed reorganization of the Department's trust responsibility functions to improve the management of Indian trust assets. Any tribe, band, nation or individual is encouraged to attend the meeting and to submit written comments.

DATES: The meeting will be held on October 23, 2002, in Billings, Montana.

ADDRESSES: The address for the consultation meeting, which will begin promptly at 9 a.m. and continue until 3:30 p.m., is Billings Hotel and Convention Center, 1223 Mullowney Lane, Billings, Montana. Telephone number is 406/248-7151.

FOR FURTHER INFORMATION CONTACT: Aurene Martin, Deputy Assistant Secretary-Indian Affairs, 1849 C Street, NW., MS 4140 MIB, Washington, DC 20240, telephone 202/208-7163.

SUPPLEMENTARY INFORMATION: The purpose of the meeting is to involve affected and interested parties in the process of organizing the Department's trust asset management responsibility functions. The Department has determined that there is a need for dramatic change in the management of Indian trust assets. Accordingly, the Department has already held seven (7) tribal consultation meetings on this matter across the country. However, based upon the comments received from those meetings and further inquiries from tribal entities, this additional meeting was felt to be in the best interest of consultation.

Written comments may be submitted at the Billings, Montana, meeting or may be mailed to the address indicated under the heading FOR FURTHER INFORMATION CONTACT. Interested persons may examine written comments during regular business house (7:45 a.m. to 4:15 p.m. ET) in the Office of the Assistant Secretary—Indian Affairs, Washington, DC, Monday through Friday, except for Federal holidays. Commenters who wish to remain anonymous must clearly state this preference at the beginning of their written comments. The Department will honor requests for anonymity to the extent allowable by law.

These meetings support administrative policy on tribal consultation by encouraging maximum direct participation of representatives of tribal governments, tribal organizations and other interested persons in important Department processes.

Dated: October 10, 2002.
Neal A. McCaleb,
Assistant Secretary—Indian Affairs.

[FR Doc. 02-26372 Filed 10-15-02; 8:45 am]

BILLING CODE 4310-02-M